GENERAL SERVICES ADMINISTRATION

[Notice-PBS-2025-02; Docket No.2025-0002; Sequence No.4]

Notice of Availability (NOA) of the Record of Decision (ROD) for the Final Environmental Impact Statement (EIS) Prepared on the Proposed Modernization of the Bridge of the Americas Land Port of Entry (LPOE), El Paso, Texas

AGENCY: Office of Public Buildings Service (PBS), General Services Administration (GSA).

ACTION: Notice of availability.

SUMMARY: The GSA, in cooperation with the U.S. Customs and Border Protection (CBP), the U.S. International Boundary and Water Commission and in accordance with the National Environmental Policy Act (NEPA) of 1969, announces the availability of the Record of Decision for the Final Environmental Impact Statement (EIS) prepared on the proposed modernization of the BOTA LPOE in El Paso, Texas.

DATES: Applicable: Friday, April 25, 2025.

ADDRESSES: The Final EIS and Record of Decision (ROD) are available on the GSA project website at: gsa.gov/bota under Project News.

FOR FURTHER INFORMATION CONTACT: Karla R. Carmichael, NEPA Program Manager, Environmental, Fire and Safety & Health Branch, GSA/PBS, Facilities Management and Services Programs Division, 819 Taylor St., Fort Worth, TX 76102 or via telephone at 817-822-1372.

Email: bota.nepacomments@gsa.gov.

SUPPLEMENTARY INFORMATION:

Background

The Bridge of the Americas is a port of entry for vehicles and pedestrians crossing the U.S.-Mexico border between El Paso, Texas and Ciudad Juarez, Chihuahua, Mexico. The port is operated by the U.S. Department of Homeland Security's Customs and Border Protection (CBP) and is a full-service, multi-modal facility where CBP officers inspect commercially owned vehicles (COVs), privately owned vehicles (POVs), and pedestrians.

CBP's priority mission is homeland security, with responsibilities for improving security at and between U.S. ports of entry (POEs), as well as extending the zone of security beyond the physical borders of the U.S. While carrying out its mission, CBP facilitates legitimate trade and travel through the Nation's borders in an effective and efficient manner.

Purpose and Need for Action

The purpose of the proposed action is for the GSA to support CBPs mission by bringing the BOTA LPOE infrastructure in line with current CBP land port design standards and operational requirements while addressing existing deficiencies identified with ongoing port operations. In order to bring the BOTA LPOE in line with CBP's design standards and operational requirements, action is needed to satisfy the following overriding needs:

• Improve the capacity and functionality of the LPOE to meet future public demand, while maintaining the capability to meet border security initiatives.

• Ensure the safety and security for the employees and the travelling public.

Proposed Action and Alternatives Development

As part of project planning, the GSA developed two (2) action alternatives as potential means of implementing the proposed action. The no action alternative was also considered in the EIS. Both action alternatives include the phased razing of all existing buildings/structures and infrastructure within the existing LPOE boundaries and construction of new buildings/structures and supporting infrastructure. Both action alternatives also include minimal land acquisition in areas immediately adjacent to the port.

Summary of Potential Impacts

The EIS identified, described, and analyzed the potential effects of the action alternatives developed to implement the proposed action and the no action alternative and documented measures that could potentially avoid, minimize, or mitigate any identified adverse impacts.

GSA's Preferred Alternative and Environmentally Preferable Alternative

GSA considered the findings in the Final EIS, stakeholder input, all public comments, and tenant needs at the LPOE to determine the preferred alternative, including the environmentally preferable alternative, and has selected:

Viable Action Alternative 4—Multi-Level Modernization within the Existing Port Boundaries with Minor Land Acquisition Immediately Adjacent to the Port (4 acres—TxDOT) and Elimination of All Commercial Cargo Operations which includes the following rationale.

• Balancing likely adverse impacts (both short- and long-term) to the City of El Paso, El Paso County, the communities, residents, and citizens in the immediate vicinity of the BOTA LPOE and those near the other LPOEs that would likely receive commercial cargo traffic in the future.

• The likely impacts (both short- and long-term) to the overall trucking/trade industry in the region.

• The need to support CBP's mission by bringing the BOTA LPOE facilities in line with current CBP land port design standards (i.e., CBP Land Port of Entry Design Standard [CBP 2023]) and operational requirements while addressing existing deficiencies identified with the ongoing port operations.

• The overall need to improve operational efficiency, effectiveness, security, and safety for the CBP staff and cross-border travelers at the BOTA LPOE.

This decision also takes into account concerns voiced by the public which were primarily centered around commercial truck traffic at the port and the associated noise and air quality impacts to nearby residents. GSA's data collection and analysis as presented in the Final EIS demonstrates that there are likely existing environmental impacts in the vicinity of the BOTA LPOE. These largely relate to traffic (primarily commercial truck traffic) and the resulting effect on both local and regional air quality and increases in noise. Furthermore, GSA's data collection and analysis indicates that should the No Action Alternative or Action Alternative 1a be chosen for implementation, these existing conditions would likely degrade further over time. GSA's data collection and analysis for Action Alternative 4 results in no furtherance of any existing impacts and represents a likely positive move in correcting these conditions over time.

Aaron Bollinger,
Acting Director, Facilities Management Division (7PM), General Services Administration-Public Building Service, Greater Southwest Region.

[FR Doc. 2025-07646 Filed 5-1-25; 8:45 am]

BILLING CODE 6820-AY-P